DEPARTMENT OF DEFENSE

Department of the Air Force

[Docket ID USAF-2008-0042]

Privacy Act of 1974; System of Records

AGENCY: Department of the Air Force, DOD.

ACTION: Notice to Add a New System of Records.

SUMMARY: The Department of the Air Force proposes to add a new system of records to its inventory of record systems subject to the Privacy Act of 1974 (5 U.S.C. 552a), as amended.

DATES: The proposed action will be effective on January 7, 2009 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on November 26, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: December 2, 2008.
Morgan E. Frazier,
Alternate OSD Federal Register Liaison Officer, Department of Defense.

F033 AFCA C

System name:

USAF Information Technology E-Learning System.

System location:

SkillSoft: c/o VeriCenter/Sunguard; 20 Overland Street; Boston, MA 02215-3309.

Categories of individuals covered by the system:

Air Force military and civilian personnel, Reserves, Air National Guard, and contractor personnel.

Categories of records in the system:

Individual's full name, Social Security Number (SSN), address, telephone number, student registrations and history of learning assets (courses, test preparations, mentoring, books, skillbriefs) accessed and completed and other related documents.

Authority for maintenance of the system:

10 U.S.C. 8013, Secretary of Air Force; DoD 8570.01-M, Information Assurance Workforce Improvement Program; and Air Force Instruction 33-115, Volume 2, Licensing Network Users and Certifying Network Professionals and E.O. 9397 (SSN).

Purpose(s):

To provide interactive, self-paced, web-based training and reference material anytime, anywhere to users' desktops to keep Air Force personnel skilled in the technology and knowledge they need to carry out their missions. Used as a management tool in support of Air Force information technology training requirements.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of record system notices apply to this system.

Policies and practices for storing, retrieving, accessing, retaining, and disposing of records in the system:

Storage:

Electronic storage media.

Retrievability:

By individual's full name and/or Social Security Number (SSN).

Safeguards:

Individual users, Air Force report administrators and personnel may only access the system by using reduced sign-on capability available through the Air Force Portal. System is contractor owned and operated and can only access the system by using an individual specific unique User ID and password to access the system for servicing the record system in performance of their official duties. Typical industry standard software/hardware applications/appliances (audit logs, virus detection, intrusion detection, firewalls, encryption of data in transmission) are utilized to protect the system. Data Center where system area network resides has onsite personnel, 24x7; electronic and physical security, video surveillance, man-trap entry, and badge-only access. Student data collected is encrypted.

Retention and disposal:

Destroy by shredding or burning 4 months after individual retires or separates.

System manager(s) and address:

Program Manager, Department of the Air Force, AF Information Technology Electronic-Learning; Cyber Force Training; Air Force Communications Agency (HQ AFCA/CAFT), 203 West Losey Street, Scott Air Force Base, IL 62225-5212.

Notification procedure:

Individuals seeking to determine whether information about themselves is contained in this system of records may contact the Program Manager, Department of the Air Force, Air Force Information Technology Electronic-Learning; Cyber Force Training; Air Force Communications Agency (HQ AFCA/CAFT), 203 West Losey Street, Scott Air Force Base, IL 62225-5212.

Written request must include individual's complete name, address, daytime contact telephone number, and signature on request.

Record Access procedures:

Individuals seeking to access records about themselves contained in this system of records may also contact the Program Manager, AF Information Technology Electronic-Learning; Cyber Force Training; Air Force Communications Agency (HQ AFCA/CAFT), 203 West Losey Street, Scott Air Force Base, IL 62225-5212.

Written request must include individual's complete name, address, daytime contact telephone number, and signature on request.

Contesting record procedures:

The Air Force rules for accessing records, and for contesting contents and appealing initial agency determinations are published in Air Force Instruction 33-332 Privacy Act Program; 32 CFR part 806b; or may be obtained from the system manager.

Record source categories:

Information obtained from Air Force Portal, Air Force Directory Services, and individually registered users of the system.

Exemptions claimed for the system:

None.

[FR Doc. E8-28935 Filed 12-5-08; 8:45 am]

BILLING CODE 5001-06-P